OFFICE OF PERSONNEL MANAGEMENT

[OMB No. 3206-0005]

Proposed Collection; Comment Request for Proposed Clearance of Revised Information Collection

Questionnaire for Non-Sensitive Positions, Standard Form 85 (SF 85); Questionnaire for Public Trust Positions, Standard Form 85P (SF 85P); Supplemental Questionnaire for Selected Positions, Standard Form 85PS (SF 85PS); Questionnaire for National Security Positions, Standard Form 86 (SF 86); Continuation Sheet for Questionnaires Sf 85, Sf 85p, and SF 86, Standard Form 86A (SF 86A); and Certification Statement for SF 86 (SF 86C)

AGENCY: U.S. Office of Personnel Management.

ACTION: Notice.

SUMMARY: In accordance with the Paperwork Reduction Act of 1995 (Pub. L. 104-13), this notice announces that the U.S. Office of Personnel Management (OPM) intends to submit to the Office of Management and Budget (OMB) a request for clearance of these information collections:

• Questionnaire for Non-Sensitive Positions, SF 85;

• Questionnaire for Public Trust Positions, SF 85P;

• Supplemental Questionnaire for Selected Positions, SF 85PS;

• Questionnaire for National Security Positions, SF 86;

• Continuation Sheet for Questionnaires SF 85, SF 85P, and SF 85PS, SF 86A;

• Certification Statement for SF 86, SF 86C; and

• Parallel, electronic versions of the SF 85, SF 85P, SF 85PS, and SF 86, including accompanying releases, housed in a system named e-QIP (Electronic Questionnaires for Investigative Processing).

These information collections are completed by applicants for, or incumbents of, Government positions, or positions for the Government under contract, or by military personnel. The collections are used as the basis of information for background investigations to establish that such persons are:

• Suitable for employment or retention in Federal employment;

• Fit based on character and conduct for employment or retention as a contractor;

• Suitable for a public trust position;

• Suitable for or retention in national security positions as defined in 5 CFR 732;

• Eligible for or retention in positions requiring access to classified information under Executive Order 12968;

• Eligible for employment or retention as a Federal employee, Federal contractor or military personnel.

When use is necessary, the SF 86A is used in lieu of blank paper as a continuation of the form with which its use is associated and not for any unique purpose exclusive from the associated form.

Comments are particularly invited on:

• Whether this collection of information is necessary for the proper performance of functions of the U.S. OPM and its Federal Investigative Services Division, which administers background investigations;

• Whether our estimate of the public burden of this collection is accurate, and based on valid assumptions and methodology;

• Ways in which we can minimize the burden of the collection of information on those who are to respond, through use of the appropriate technological collection techniques or other forms of information technology; and

• Ways in which we can enhance the quality, utility, and clarity of the information to be collected.

The SF 85, SF 85P, SF 85PS, SF 86, SF 86A, and SF 86C are completed by both employees of the Federal Government and individuals not employed with the Federal Government, including Federal contractors and military personnel.

Federal employees are defined as those individuals who are employed as civilian or military personnel with the Federal Government. Non-Federal employees include members of the general public and all individuals employed as Federal and military contractors, or individuals otherwise not directly employed by the Federal Government.

It is estimated that 45,100 non-Federal individuals will complete the SF 85 annually. Each form takes approximately 30 minutes to complete. The estimated annual public burden is 22,600 hours.

It is estimated that 87,400 non-Federal individuals will complete the SF 85P annually. Each form takes approximately 60 minutes to complete. The estimated annual burden is 87,400 hours.

It is estimated that 10,600 non-Federal individuals will complete the SF 85PS annually. Each form takes approximately 10 minutes to complete. The estimated annual burden is 1,800 hours.

It is estimated that 190,100 non-Federal individuals will complete the SF 86 annually. Each form takes approximately 120 minutes to complete. The estimated annual burden is 380,200 hours.

It is estimated that 16,000 non-Federal individuals will complete the SF 86A annually. When this continuation form is used, however, no public burden estimate is provided as it is included with the time computed with the associated security questionnaire.

It is estimated that 1,200 non-Federal individuals will complete the SF 86C annually. Each form takes approximately 15 minutes to complete. The estimated annual burden is 300 hours.

The total estimated annual number of responses for all forms in this collection is 350,400. The estimated annual burden is 492,300 hours.

e-QIP (Electronic Questionnaires for Investigations Processing) is a Web-based system application that houses electronic versions or the SF 85, SF 85P, SF 85PS, and SF 86. This internet data collection tool is used in place of and not in addition to the paper versions of these forms. Individuals using e-QIP will enjoy more convenience, faster processing time, and immediate data validation to ensure accuracy of their personal history information. The data requested on these forms is consistent with that requested on their paper counterparts. While e-QIP will significantly enhance the processing of security questionnaires for processing of background investigations, we do not expect an immediate discernable change to the public burden hours from those cited above for identical paper versions of the forms. However, we expect to have separate, estimated figures for publication in the 30-day Federal Register Notice.

In FY 2007, the total number of e-QIP users totaled 622,300. This includes 40,000 submitted on the SF 85; 69,000 on the SF 85P; and 513,300 on the SF 86.

For copies of this proposal, contact Mary Beth Smith-Toomey on (202) 606-8358, Fax (202) 418-3251 or e-mail to mbtoomey@opm.gov. Please be sure to include a mailing address with your request.

DATES: Comments on this proposal should be received within 60 calendar days from the date of this publication.

ADDRESSES: Send or deliver comments to—Kathy Dillaman, Associate Director, Federal Investigative Services Division, U.S. Office of Personnel Management, 1900 E Street, NW., Room 2H31, Washington, DC 20415.

For Information Regarding Administrative Coordination—Contact: Mary-Kay Brewer, Program Analyst, Operational Policy Group, Federal Investigative Services Division, U.S. Office of Personnel Management, (202) 606-1835.

U.S. Office of Personnel Management.
Howard Weizmann,
Deputy Director.

[FR Doc. E8-14100 Filed 6-20-08; 8:45 am]

BILLING CODE 6325-38-P